DEPARTMENT OF AGRICULTURE

Food Safety and Inspection Service

[Docket No. 05-004N]

Notice of Funding Opportunities With the Food Safety and Inspection Service for Food Safety Cooperative Agreements for Fiscal Year 2005

AGENCY: Food Safety and Inspection Service.

ACTION: Notice of funding opportunities for fiscal year 2005.

SUMMARY: The Food Safety and Inspection Service (FSIS) is soliciting proposals for cooperative agreement projects to be funded in fiscal year 2005. Proposals should be made in one or more of the cooperative agreement program areas described in this notice.

DATES: Proposals must be submitted by June 20, 2005.

SUPPLEMENTARY INFORMATION:

Background

FSIS continuously seeks new ideas and strategies to reduce the incidence of foodborne illnesses associated with meat, poultry, and egg products and protect the food supply. Agency innovations, notably those associated with the implementation of Hazard Analysis and Critical Control Point (HACCP) systems, have helped reduce foodborne illnesses in recent years. FSIS seeks to achieve additional reductions in foodborne illnesses, and to enhance food security, through further improvements in FSIS operations and through joint efforts with partner agencies and organizations.

To achieve this goal, FSIS is authorized to use cooperative agreements to reflect a relationship between FSIS and other Federal agencies, States, or cooperators to carry out educational programs or special studies to improve the safety of the nation's food supply (Pub. L. 108-7, sec. 713, 117 Stat. 39). Also, FSIS has been directed to further develop the Food Emergency Response Network, a network of Federal, State and local laboratories that provides the nation the analytic capabilities and capacity it needs to cope with agents threatening the food supply (Pub. L. 108-447; H.R. Conf. Rpt. 108-792).

Risk analyses have shown that the safety of food is affected by hazards throughout the farm-to-table continuum. FSIS alone does not have the resources to address and ameliorate all hazards. FSIS seeks partners to assist in the development of materials that will have a national impact on public health. In keeping with its July 2004 strategy paper “Fulfilling the Vision, Initiatives in Protecting Public Health,” FSIS will engage in cooperative projects that will achieve measurable enhancement of the Nation's public health through food safety.

With the goal of making demonstrable improvements in public health through further science-based reductions in the incidence of foodborne disease and hazards associated with meat, poultry, and egg products, and to enhance food defenses through improved State and local government laboratory participation in the Food Emergency Response Network, FSIS will fund cooperative agreements in the following areas:

1. Food animal production, transportation, and marketing. Projects would develop and implement producer education programs that promote the use of best practices and interventions that reduce the potential for pathogens and other hazards borne by livestock and poultry to be introduced into meat, poultry, and egg products produced from those animals. An example would be a project to develop practical methods for controlling Salmonella or pathogenic E. coli on the farm to decrease the prevalence of those bacteria at slaughter.

2. Small and very small inspected meat, poultry, or egg product establishments. Projects would assist small plants (fewer than 500 employees) and very small plants (10 or fewer employees, or less than $2.5 million in annual sales), which often have limited technical and financial resources with which to comply fully with Federal inspection requirements. FSIS seeks to develop food safety training and educational programs and materials to reflect the needs of diverse customers and constituents with specific food safety concerns. The Nation's diverse population is reflected in its diverse food industry, which presents challenges for regulatory authorities, who must communicate effectively with them on a range of food safety issues. Projects would equip FSIS and its food safety partners to better overcome language and cultural barriers in delivering essential food safety messages to these firms. Projects would help FSIS and state meat and poultry inspection program officials identify and address food safety and public health concerns associated with particular geographic regions or specific minority populations. FSIS is seeking to develop new and innovative materials that cover topics such as Listeria monocytogenes in ready-to-eat meat and poultry products, validation of pathogen controls in small plants, assessing the effectiveness of food safety systems, and building on lessons learned from HACCP systems.

3. Retail stores, food service establishments, and other inspection-exempt small businesses processing or handling meat, poultry, and egg products. Projects would assist State and local agencies to promote, and food businesses under their jurisdiction to adopt, appropriate controls and interventions to ensure that inspection-exempt meat and poultry products being produced are safe and wholesome and that inspected meat and poultry products being handled and prepared remain safe and wholesome for consumers. Projects may address State and local retail inspectors' needs for tools to ensure the safety of meat and poultry processed or handled at retail, reducing the potential for Listeria monocytogenes contamination of ready-to-eat meat and poultry products, and ways to leverage current Federal, State, and local food safety activities to more effectively protect consumers.

4. Applications of new technologies that will permit small and very small meat, poultry, and egg product establishments to produce safer products. Projects would assist small and very small plants to adapt and use new technologies, including interventions, processes, and systems, to enhance product safety.

5. Enhancement of laboratory testing capability of the Food Emergency Response Network for microbiological threat agents. Cooperative agreements will develop programs to assist State and local laboratories to augment microbiological threat agent testing capacities and increase the number of member laboratories that are able to perform threat agent testing for the network. The agreements will enhance laboratories' ability to analyze for microbiological threat agents using FERN methods and improve laboratory capacities for surveillance and outbreak response. The agreements will support training in FERN threat agent methods and the purchase of supplies and equipment required by the methods. After training and demonstration of proficiency, laboratories will participate in validation studies with various food matrices as well as surveillance activities sponsored by FERN.

FSIS expects to allocate approximately $2,500,000 to fund cooperative agreements in these areas this fiscal year. The approximate amount available for each area, and the range in dollars for proposed cooperative projects, is provided below. Academic institutions; State, local and tribal government agencies; and non-profit organizations are invited to submit brief proposals (one to two pages) for cooperative agreements in any of the areas described. These proposals will be reviewed by FSIS. If reviewers find that the proposals would further the food safety and public health goals of FSIS, are applicable nationwide to targeted audiences, can be reproduced and disseminated, and reflect new materials or approaches, submitters will be invited to further develop the proposals for consideration as cooperative agreements with FSIS, as funding is available.

Proposals are due June 20, 2005. FSIS will review and respond to proposals by August 3, 2005. Unlike typical Federal grants, cooperative agreements involve a Federal agency's active participation with the cooperator during both project development and project execution. Work products are intended to be available for public use nationwide. The criteria used by FSIS to assess proposals are listed for each cooperative agreement program area. Cooperators whose proposals are selected for further project development will need to discuss and reach agreement with FSIS on project details to permit establishment of a cooperative agreement no later than July 30, 2005.

All proposals should address the following points:

• Project description, including specific goals, timeline, and deliverables

• Description of national public benefit expected, including expected utility of work products, for example, training manuals, CDs, and videos

• Projected costs, including cooperator contributions

• Projected performance measures

• Primary contact, principal investigator, and other likely participants, and

• Public domain; work products may be freely reproduced and distributed by FSIS.

Multi-year projects will be considered, but they are subject to annual renewal and may be affected by changes in FSIS’ annual budget. The number of projects funded each year is determined by the number of proposals received, the extent to which they will further the food safety and public health goals of the Agency, the performance of ongoing projects, and funding availability.

Proposals are being solicited for fiscal year 2005 for the following five cooperative agreement program areas:

1. Food animal production, transportation, and marketing Description: Cooperative agreements will support State-level partnerships to bring together food animal producers, veterinarians, Extension specialists, State and Federal animal health officials, and State and Federal public health officials to provide information and education to food animal producers. Partnerships will develop and distribute to producers educational materials that strengthen food safety through adoption of animal production practices that support pathogen reduction and residue avoidance in food animals. State food safety partnerships will provide a continuing non-regulatory infrastructure for information sharing among all levels of government and the food animal industries and will enhance and recognize Quality Assurance Programs (QAP) as a basic element of pre-harvest food safety.

Funding Level: The total level for fiscal year 2005 is approximately $500,000. Agreements usually will not exceed $50,000.

Evaluation Criteria: Proposals for funding will be ranked in consideration of certain factors. They are, in order of significance:

• Proposal's feasibility and relevance to pre-harvest food safety

• Participation by State animal health or public health officials

• Participation by food animal industry leaders

• Special animal health or food safety needs of industry

• Demonstrated ability to develop and deliver to producers information on food safety awareness and safe production practices

• Food animal population affected

• Cooperator's past performance in animal and egg production food safety cooperative agreements, and

• Geographic distribution of States (need for national presence).

Submit Proposals to: john.ragan@fsis.usda. Although electronic submissions are encouraged, proposals also may be mailed to John R. Ragan, D.V.M., Animal and Egg Production Food Safety Staff, Zoonotic Diseases and Residue Surveillance Division, Office of Public Health Science, FSIS, USDA, 1400 Independence Avenue, SW., Room 343 Aerospace Building, Washington, DC 20250-3700.

FOR FURTHER INFORMATION CONTACT: John R. Ragan, D.V.M., (202) 690-1277, or Sibyl Wright, (202) 720-4923, sibyl.wright@fsis.usda.gov, of the Animal and Egg Production Food Safety Staff.

2. Small and very small inspected meat, poultry or egg product establishments.

Description: Cooperative agreements will provide outreach to constituencies involved in FSIS-regulated activities, principally small and very small establishments and establishments in tribal and other underserved areas. Projects support training, education, and outreach that will promote more effective use of HACCP systems, appropriate responses to emerging food safety and food security concerns, understanding of the latest information on foodborne illness and hazards, availability of new procedures and technologies for hazard avoidance and mitigation, and security guidance.

Funding Level: The total level is approximately $250,000. Agreements typically range from $10,000 to $30,000. Larger amounts may be considered for compelling projects.

Evaluation Criteria: Proposals for funding will be ranked in consideration of certain factors. They are, in order of significance:

• Responds to the needs of small and very small plants

• Provides for measurable, documented results

• Provides a degree of innovation

• Assists small and very small plants to maintain effective HACCP systems, produce safe products, and otherwise comply with Federal regulations

• Provides a deliverable product that can be easily shared and is applicable to a wide audience. For example, the project will result in information or materials and be presented in a format that can be used by FSIS and its partners to improve food safety and impact public health, and

• Cooperator agrees to contribute significant resources to the project.

Submit Proposals to: kathleen.barrett@fsis.usda.gov. Although electronic submission is encouraged, proposals also may be mailed to Kathleen Barrett at Strategic Initiatives, Partnerships and Outreach Staff, FSIS, USDA, 1400 Independence Avenue, SW., Room 405 Aerospace Building, Washington, DC 20250.

FOR FURTHER INFORMATION CONTACT: Kathleen Barrett, Strategic Initiatives, Partnerships and Outreach Staff, at (202) 690-6644.

3. Retail stores, food service establishments, and other inspection-exempt small businesses processing or handling meat, poultry, and egg products.

Description: Projects will promote adoption of practices by small businesses, in particular retail and food service establishments, to reduce or eliminate food safety hazards to foods under their control. Projects are typically aimed at enhancing State, local, or tribal government food protection agencies' outreach capabilities and ability to make measurable improvements in food safety in support of FSIS' national public health mission and goals.

Funding Level: The total level is $250,000. Agreements typically range from $20,000 to $50,000. Larger amounts may be considered for compelling projects.

Evaluation Criteria: Proposals for funding will be ranked in consideration of certain factors. They are, in order of significance:

• Contributes to adoption by firms producing or handling meat, poultry, and egg products of the best available practices for controlling food safety hazards in their commercial environment.

• Provides State and local food inspectors tools for ensuring the safety of meat and poultry processed or handled at retail.

• Leverages current Federal, State, and local food safety activities to more effectively protect consumers.

• Provides a degree of innovation.

• Provides a deliverable product that is transferable; that is, the project will result in information or materials useful for food safety in other jurisdictions.

• Responds to needs of underserved areas or populations.

• Involves collaboration among interested entities; that is, the project involves industry, academia, Extension, and consumer groups as well as government agencies (involvement of a state food safety task force is desirable).

• Cooperator agrees to contribute significant resources to the project.

• Reduces the potential for product contamination, in particular, Listeria contamination of ready to eat foods.

Submit Proposals to: ralph.stafko@fsis.usda.gov. Although electronic submissions are encouraged, proposals also may be mailed to Ralph Stafko, Strategic Initiatives, Partnerships, and Outreach Staff, FSIS, USDA, 1400 Independence Avenue, SW., 405 Aerospace Building, Washington, DC 20250.

FOR FURTHER INFORMATION CONTACT: Ralph Stafko, Strategic Initiatives, Partnership, and Outreach Staff, at (202) 690-6520.

4. New Technology that will permit small and very small meat, poultry and egg product establishments to produce safer products.

Description: Cooperative agreements will promote new technologies or new adaptations of technologies, including interventions, processes, or systems, that will enhance the ability of small and very small plants to produce safe and wholesome meat, poultry, and egg products.

Funding Level: The total is approximately $500,000. Agreements will range from $25,000 to $75,000. Larger contract proposal amounts may be considered for certain projects that address FSIS food safety priorities.

Evaluation Criteria: Proposals for funding will be ranked in consideration of certain factors. They are, in order of significance:

• Helps small and very small plants meet their HACCP and food safety requirements.

• Helps small and very small plants to understand how to demonstrate that a new technology complies with Federal inspection requirements.

• Provides a degree of innovation.

• Applies new research and technologies that address current food safety and public health concerns, such as properly handling and labeling products that contain ingredients that are known allergens.

• Provides deliverable products that are easily transferable, such as videos, training programs, and flow charts. The project will result in information or materials useful to small and very small plants to improve food safety.

For example, the subjects of proposals may include:

• Antimicrobial or other kinds of interventions to reduce or eliminate E. coli 0157:H7 in ground meat products.

• Listeria monocytogenes post-lethality treatments for ready-to-eat products.

• The relationship between the level of Salmonella enteritidis in eggs and egg products and the molting of poultry.

• The relationship between the level of Salmonella enteritidis and the temperature at which eggs have been held from the day of lay until the day of processing.

• Salmonella growth and reduction in shelf-stable ready-to-eat products.

• Cost-effective mechanisms to determine the temperature of products while they are being shipped.

• Allergens, food sensitivities, and intolerances in meat and poultry products; development of a training program for small and very small plants to help with the reassessment of their HACCP programs as they pertain to any ingredient that may be an allergen.

• Inoculation challenge studies on non-thermally processed ready-to-eat products; for example, validation studies for dry cured chorizo, basturma, prosciutto ham, and pancetta.

• The amount of pathogen growth, such as E. coli O157:H7 and Salmonella, on livestock carcasses during the cooling process, and the development of easily understood predictive microbial models.

• The minimum chamber relative humidity needed to ensure that the moisture level on the product surface is adequate to achieve the desired lethality without increasing the heat resistance of bacterial pathogens (for example, Salmonella spp.).

• Alternative methods, such as antimicrobial packaging, to achieve surface lethality for products that had been exposed to the environment after lethality treatment.

Submit Proposals to: shaukat.syed@fsis.usda.gov. Although electronic submissions are encouraged, proposals also may be mailed to Shaukat H. Syed, D.V.M., Director, New Technology Staff, FSIS, USDA, 1400 Independence Avenue, SW., Room 2932, South Building, Washington, DC 20250.

FOR FURTHER INFORMATION CONTACT: Howard L. Early, D.V.M., New Technology Staff, at (202) 205-0675.

5. Enhancement of laboratory testing capability of the Food Emergency Response Network for microbiological threat agents.

Description: The Food Emergency Response Network (FERN) is composed of State and local government regulatory laboratories with varying capacities to perform the testing of threat agents. Cooperative agreements will develop programs to assist State and local laboratories to augment microbiological threat agent testing capacities and increase the number of member laboratories that are able to perform threat agent testing for the network. The agreements will enhance laboratories' ability to analyze for microbiological threat agents using FERN methods and improve laboratory capacities for surveillance and outbreak response. The agreements will support training in FERN threat agent methods and the purchase of supplies and equipment required by the methods. After training and demonstration of proficiency, laboratories will participate in validation studies with various food matrices as well as surveillance activities sponsored by FERN.

Funding Level: The total level is approximately $1,000,000. Agreements typically range from $50,000 to $100,000.

Evaluation Criteria: Proposals for funding will be ranked in consideration of certain factors. They are, in order of importance:

• Includes provisions for measurable, documented results that may be shared with State and local laboratories, FSIS, or its agents.

• Provides information useful for the testing of threat agents in food.

• Possesses basic food analytic resources to implement the agreement.

• States' willingness to participate in method validation, proficiency testing, and surveillance programs.

Submit Proposals to: Wayne Ziemer, FERN, FSIS, 950 College Station Road, Athens, Georgia 30605; telephone (706) 546-3591; facsimile (706) 546-3518; wayne.ziemer@fsis.usda.gov.

FOR FURTHER INFORMATION CONTACT: Frankie J. Beacorn, Biological Food Security and Emergency Branch, Food Emergency Response Network Division, FERN, FSIS, USDA, 950 College Station Road, Athens, Georgia 30677; telephone (706) 546-3578; facsimile (706) 546-3518; frankie.beacorn@fsis.usda.gov.

Additional Public Notification

Public awareness of all segments of rulemaking and policy development is important. Consequently, in an effort to ensure that the public and in particular minorities, women, and persons with disabilities are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service consisting of industry, trade, and farm groups, consumer interest groups, allied health professionals, scientific professionals, and other individuals who have asked to be included. The update is available on the FSIS Web page. Through Listserv and the Web page, FSIS is able to provide information to a much broader, more diverse audience.

In addition, FSIS offers an electronic mail subscription service that provides an automatic and customized notification when popular pages are updated, including Federal Register publications and related documents. This service is available at http://www.fsis.usda.gov/news_and_events/email_subscription/ and allows FSIS customers to sign up for subscription options across eight categories. Options range from recalls to export information to regulations, directives, and notices.

Customers can add or delete subscriptions themselves and have the option to protect their accounts with passwords.

Done at Washington, DC, on April 15, 2005.
Barbara J. Masters,
Acting Administrator.

[FR Doc. 05-7955 Filed 4-19-05; 8:45 am]

BILLING CODE 3410-DM-P